DEPARTMENT OF HEALTH AND HUMAN SERVICES

Office of the Secretary

Office of Security & Strategic Information; Statement of Organization, Functions, and Delegations of Authority

Part A, Office of the Secretary, Statement of Organization, Functions, and Delegations of Authority for the Department of Health and Human Services (HHS) is being amended at Part A, Chapter AB, Office of the Secretary, which was last amended at 82 FR 205, dated October 25, 2017. This notice changes the name of the Office of Security and Strategic Information to the Office of National Security. This notice does not revise the roles and authorities of the office or the Assistant Deputy Secretary for National Security, who serves as the Secretary's Senior Intelligence Official.

The changes are as follows:

A. Under Chapter AB, Section AB.10 Organization, replace Office of Security and Strategic Information (ABE), with Office of National Security (ABE).

B. Under Chapter AB, Section AB.20, Functions, replace the last paragraph, which begins with “Office of Security and Strategic Information (ABE),” with: Office of National Security (ABE).

The Office of National Security (ONS) is headed by the Assistant Deputy Secretary for National Security, who reports directly to the Deputy Secretary and also serves as the Secretary's Senior Intelligence Official on intelligence and counterintelligence issues. The Assistant Deputy Secretary for National Security has been delegated original classification authority by the Secretary. The Assistant Deputy Secretary for National Security manages the ONS.ONS' vision is for HHS personnel to successfully accomplish missions worldwide in a security-informed manner and with the actionable intelligence needed, at the right time, for operational and policy decisions. ONS' responsibilities include: Integrating intelligence and security information into HHS policy and operational decisions; assessing, anticipating, and warning of potential security threats to the Department and our national security; and, providing policy guidance on and managing the OS implementation of the Department's security, intelligence and counterintelligence programs. ONS' programs include national security adjudication, classified national security information management, secure compartmented information facilities management, communications security, safeguarding and sharing of classified information, cyber threat intelligence, insider threat, and counterintelligence. In coordination with the Director of National Intelligence, ONS has been designated as a Federal Intelligence Coordinating Office and the Assistant Deputy Secretary for National Security serves as the HHS Federal Senior Intelligence Coordinator. ONS has responsibilities to establish implementing guidance, provide oversight, and manage the Department's policy for the sharing, safeguarding, and coordinated exchange of information related to national or homeland security with other federal departments and agencies, including law enforcement organizations and the Intelligence Community, in compliance with HHS policies and applicable laws, regulations, and Executive Orders.

C. Delegation of Authority. Pending further redelegation, directives or orders made by the Secretary or Deputy Secretary, all delegations and redelegations of authority made to officials and employees of affected organizational components will continue in them or their successors pending further redelegations, provided they are consistent with this reorganization.

Dated: February 12, 2019.
Eric D. Hargan,
Deputy Secretary, Department of Health and Human Services.

[FR Doc. 2019-02663 Filed 2-15-19; 8:45 am]

BILLING CODE 4150-03-P